DEPARTMENT OF HOMELAND SECURITY

Federal Emergency Management Agency

44 CFR Part 67

[Docket No. FEMA-B-7701]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | *Elevation in feet (NGVD) +Elevation in feet (NAVD) # Depth in feet above ground: Effective | *Elevation in feet (NGVD) +Elevation in feet (NAVD) # Depth in feet above ground: Modified | Communities affected
Bartow County, Georgia and Incorporated Areas
Raccoon Creek | Approximately 19,930 feet upstream of the confluence with Etowah River | None | +705 | Bartow County ((Unincorporated Areas).
| Approximately 22,900 feet upstream of the confluence with Etowah River | None | +708
*National Geodetic Vertical Datum
#Depth in feet above ground
+North American Vertical Datum
ADDRESSES
Bartow County (Unincorporated Areas)
Maps are available for inspection at the Community Map Repository, 135 West Cherokee Avenue, Suite 124, Cartersville, Georgia 30120.
Send comments to Mr. Clarence Brown, Presiding Commissioner, Bartow County, 135 West Cherokee Avenue, Suite 251, Cartersville, Georgia 30120.

Flooding source(s) | Location of referenced elevation | *Elevation in feet (NGVD) +Elevation in feet (NAVD) # Depth in feet above ground: Effective ¹ | *Elevation in feet (NGVD) +Elevation in feet (NAVD) # Depth in feet above ground: Modified | Communities affected
Carroll County, Georgia and Incorporated Areas
Beulah Creek | At the confluence with Little Tallapoosa River | +986 | +988 | City of Carrollton.
| At Columbia Drive | +986 | +988
Buffalo Creek | At Strickland Road | +1042 | +1043 | City of Carrollton.
Tributary 1 | Approximately 900 feet upstream of Strickland Road | +1042 | +1043
Chandler's Spring Creek | At the confluence with Little Tallapoosa River | +989 | +992 | City of Carrollton.
| Just upstream of William Street | +989 | +992
Curtis Creek | At the confluence with Little Tallapoosa River | +991 | +994 | City of Carrollton.
| At Lake Carroll Dam | +991 | +994
Little Tallapoosa River | Approximately 2,275 feet upstream of confluence of Buck Creek | +977 | +978 | City of Carrollton.
| Approximately 2,800 feet upstream of Northside Drive | +992 | +995
Little Tallapoosa River Tributary | At the confluence with Little Tallapoosa River | +990 | +993 | City of Carrollton.
| Approximately 2,870 feet upstream of confluence with Little Tallapoosa River | +992 | +993
Sweetwater Creek | At Carroll/Douglas County boundary | None | +979 | Carroll County.
| Approximately 1,510 feet upstream of the Carroll/Douglas county boundary | None | +982 | (Unincorporated Areas).
Tanyard Branch | At confluence with Little Tallapoosa River | +989 | +992 | City of Carrollton.
| Approximately 135 feet upstream of River Drive | +991 | +992
* National Geodetic Vertical Datum.
# Depth in feet above ground.
+ North American Vertical Datum.
¹ The existing elevation data included on the effective FIRM is printed in the elevation datum of the National Geodetic Vertical Datum of 1929 (NGVD29). In order to convert this printed elevation data from the NGVD29 datum to the NAVD88 datum, please add 0.2 feet.
ADDRESSES
Carroll County (Unincorporated Areas)
Maps are available for inspection at the Community Map Repository, Carroll County Engineering Department, 315 Bradley Street, Carrollton, Georgia 30117.
Send comments to The Honorable Robert Barr, Chairman, Carroll County Board of Commissioners, 315 Bradley Street, Georgia, 30117.
City of Carrollton
Maps are available for inspection at the Community Map Repository, Carroll County Engineering Department, 315 Bradley Street, Carrollton, Georgia 30117.
Send comments to The Honorable Weigh Garner, Mayor, City of Carrollton, 315 Bradley Street, Georgia, 30117.

Flooding source(s) | Location of referenced elevation | * Elevation in feet (NGVD) + Elevation in feet (NAVD) # Depth in feet above ground: Effective | * Elevation in feet (NGVD) + Elevation in feet (NAVD) # Depth in feet above ground: Modified | Communities affected
Forsyth County, Georgia and Incorporated Areas
Hurricane Creek | At the confluence with Settingdown Creek | +969 | +970 | Forsyth County (Unincorporated Areas).
| Approximately 1,010 feet upstream of the confluence with Settingdown Creek | +969 | +970
James Creek | At the confluence with Chattahoochee River | +917 | +918 | Forsyth County (Unincorporated Areas).
| Approximately 2,400 feet upstream of the confluence with Chattahoochee River | +917 | +918
Tributary G | At the confluence with Settingdown Creek | +1,141 | +1,140 | Forsyth County (Unincorporated Areas).
| Approximately 100 feet upstream of the confluence with Settingdown Creek | +1,141 | +1,140
Tributary J | At the confluence with Settingdown Creek | +1,157 | +1,156 | Forsyth County (Unincorporated Areas).
| Approximately 60 feet upstream of the confluence with Settingdown Creek | +1,157 | +1,156
* National Geodetic Vertical Datum.
# Depth in feet above ground.
+ North American Vertical Datum.
ADDRESSES
Forsyth County (Unincorporated Areas)
Maps are available for inspection at 110 East Main Street, Suite 100, Cumming, Georgia 30040.
Send comments to Mr. Jack Conway, Commission Chairman, Forsyth County, 110 East Main Street, Suite 210, Cumming, Georgia 30040.

Flooding source(s) | Location of referenced elevation | *Elevation in feet (NGVD) +Elevation in feet (NAVD) # Depth in feet above ground: Effective | *Elevation in feet (NGVD) +Elevation in feet (NAVD) # Depth in feet above ground: Modified | Communities affected
Whitfield County, Georgia and Incorporated Areas
Poplar Springs Creek | Approximately 660 feet downstream of Poplar Springs Road | None | +747 | Whitfield County (Incorporated Areas).
| Approximately 1,270 feet upstream of Reed Pond Road Northwest | None | +771
* National Geodetic Vertical Datum.
# Depth in feet above ground.
+ North American Vertical Datum.
ADDRESSES
Whitfield County (Unincorporated Areas)
Maps are available for inspection at 1407 Burleyson Drive, Dalton, Georgia 30720.
Send comments to Brian D. Anderson, Sr., Commission Chairman, Board of Commissioners, Whitfield County, 301 West Crawford Street, Dalton, Georgia 30720.

Flooding source(s) | Location of referenced elevation | *Elevation in feet (NGVD) +Elevation in feet (NAVD) # Depth in feet above ground: Effective | *Elevation in feet (NGVD) +Elevation in feet (NAVD) # Depth in feet above ground: Modified | Communities affected
Choctaw County, Mississippi, and Incorporated Areas
Yockanookany River | At Highway 407 | None | +454 | Town of Weir.
| Approximately 400 feet upstream of South Union Road | None | +513 | Choctaw County (Unincorporated Areas).
Yockanookany River Tributary 2 | At Kansas City Southern Railroad Bridge | None | +516 | Town of Ackerman Choctaw County.
| Approximately 120 feet upstream of McKnight Road | None | +534 | (Unincorporated Areas).
Yockanookany River Tributary 3 | At West Main Street | None | +510 | Town of Ackerman
| Approximately 90 feet upstream of State Highway 12 | None | +538 | Choctaw County (Unincorporated Areas).
Yockanookany River Tributary 4 | Approximately 70 feet downstream of Commerce Street | None | +521 | Town of Ackerman.
| Approximately 320 feet upstream of College Street | None | +534
* National Geodetic Vertical Datum.
# Depth in feet above ground.
+ North American Vertical Datum.
ADDRESSES
Town of Ackerman
Maps are available for inspection at Town Hall, 45 East Main Street, Ackerman, MS 39735.
Send comments to The Honorable Bruce Burney, Mayor, 45 East Main Street, Ackerman, MS 39735.
Choctaw County (Unincorporated Areas)
Maps are available for inspection at County Courthouse, 22 East Quinn Street, Ackerman, MS 39735.
Send comments to Mr. Thomas Higgins, Board President, Choctaw County Board of Supervisors, 22 East Quinn Street, Ackerman, MS 39735.
Town of Weir
Maps are available for inspection at Town Hall, 217 Front Street, Weir, MS 39772.
Send comments to The Honorable Lee James, Mayor, Town Hall, 217 Front Street, Weir, MS 39772.

Flooding source(s) | Location of referenced elevation | *Elevation in feet (NGVD) +Elevation in feet (NAVD) # Depth in feet above ground: Effective | *Elevation in feet (NGVD) +Elevation in feet (NAVD) # Depth in feet above ground: Modified | Communities affected
Northumberland County, Pennsylvania, and Incorporated Areas
Boile Run | Approximately 690 feet upstream of State Road 147 | *433 | +432 | Township of Lower Augusta.
| Approximately 905 feet downstream of State Road 147 | *431 | +432
Dalmatia Creek | Approximately at 90 feet downstream of State Road 147 | *416 | +416 | Township of Lower Mahanoy.
| Approximately at 900 feet upstream of State Road 147 | *417 | +416
Limestone Run | Approximately at 1110 feet downstream of Filbert Street | *468 | +468 | Borough of Milton, Township of Turbot.
| Approximately at 1600 feet upstream of Township Route 594 | *520 | +519
Mahanoy Creek | Approximately 2120 feet downstream of State Road 147 | *426 | +427 | Township of Jackson.
| Approximately 2900 feet upstream of State Road 147 | *427 | +427
Mahantango Creek | Approximately 1000 feet downstream of State Road 147 | *404 | +400 | Township of Lower Mahanoy.
| Approximately at 3000 feet upstream of State Road 147 | *404 | +404
Muddy Run | Approximately at 3120 feet downstream of Legislative Route 49102 | *472 | +472 | Township of Turbot.
| Approximately at 50 feet downstream of Township Route 572 | *472 | +472
Shamokin Creek | Approximately 2500 feet downstream of State Road 61 | *587 | +583 | Township of Ralpho, Township of Shamokin.
| Approximately 2250 feet upstream of Irish Valley Road | *617 | +617
Susquehanna River | Approximately 18.6 miles downstream of Route 61, at Northumberland/Dauphin County line | *404 | +400 | Borough of Herndon, Borough of Northumberland,
| Approximately 3.9 miles upstream of Route 54, at Northumberland/Montour County line | *464 | +468 | Borough of Riverside, City of Sunbury, Township of Lower Augusta, Township of Lower Mahanoy, Township of Point, Township of Rush, Township of Upper Augusta.
Tributary No. 1 to Limestone Run | Approximately 2055 feet downstream of State Road 254 | *481 | +476 | Township of Turbot.
| Approximately 250 feet downstream of State Road 254 | *481 | +476
* National Geodetic Vertical Datum.
# Depth in feet above ground.
+ North American Vertical Datum.
ADDRESSES
Borough of Herndon
Maps are available for inspection at Herndon Borough Municipal Building, P.O. Box 385, Herndon, PA 17830
Send comments to The Honorable Richard Sweppenhiser, Mayor, North Main Street, P.O. Box 385, Herndon, PA 17830
Borough of Milton
Maps are available for inspection at Milton Borough Office, 2nd Filbert Street, Milton, Milton, PA 17847.
Send comments to The Honorable Charles Beck, Jr, Borough Manager, 2nd Filbert Street, Milton, PA 17847.
Borough of Northumberland
Maps are available for inspection at Northumberland Borough Building, 221 Second Street, Northumberland, PA 17857.
Send comments to The Honorable Brian M. Wolf, Chairman of Borough Council, 221 Second Street, Northumberland, PA 17857.
Borough of Riverside
Maps are available for inspection at Riverside Borough Building, 301 Dewart Street, Riverside, PA 17868.
Send comments to The Honorable Peter T. Fleming, President of Borough Council, P.O. Box 307, Riverside, PA 17868.
City of Sunbury
Maps are available for inspection at Sunbury City Code Administration Office, 225 Market Street,Sunbury, PA 17801.
Send comments to The Honorable Jess Woodring, Mayor, 225 Market Street, Sunbury, PA 17801.
Township of Jackson
Maps are available for inspection at Jackson Township Municipal Building, RR 2 Box 605, Herndon, PA 17830.
Send comments to The Honorable LaVerne Forman, Chairman of Board of Supervisors, RR 2 Box 605, Herndon, PA 17830.
Township of Lower Augusta
Maps are available for inspection at Lower Augusta Township Building, Rd #3, Box 28, Sunbury, PA 17801.
Send comments to The Honorable Talmage Johnson, Chairman of Board of Supervisors, Rd #3, Box 28, Sunbury, PA 17801.
Township of Lower Mahanoy
Maps are available for inspection at Lower Mahanoy Township Hall, Rd 1, Box 38, Dalmatia, PA 17017.
Send comments to The Honorable Larry L. Adams, Chairman of Board of Supervisors, Rd 1, Box 11, Dalmatia, PA 17017.
Township of Point
Maps are available for inspection at Point Township Municipal Building, 759 Ridge Road, Northumberland, PA 17857.

Flooding source(s) | Location of referenced elevation | *Elevation in feet (NGVD) +Elevation in feet (NAVD) # Depth in feet above ground: Effective | *Elevation in feet (NGVD) +Elevation in feet (NAVD) # Depth in feet above ground: Modified | Communities affected
Roane County, Tennessee and Incorporated Areas
Clinch River | At confluence with Tennessee River | None | +746 | City of Kingston,
| At confluence with Emory River | None | +746 | Roane County (Unincorporated Areas)
Clinch River | At confluence with Brashear Creek | None | +747 | City of Oak Ridge,
| At Roane County-Knox County Boundary | None | +796 | Roane County (Unincorporated Areas).
* National Geodetic Vertical Datum.
# Depth in feet above ground.
+ North American Vertical Datum.
ADDRESSES
Roane County (Unincorporated Areas)
Maps are available for inspection at: Roane County Mayor's Office, 200 Race Street, Kingston, TN 37763.
Send comments to the Honorable Ken Yager, Mayor Roane County, 200 Race Street, Kingston, TN 37763.
City of Kingston
Maps are available for inspection at: City of Kingston Mayor's Office, 125 W. Cumberland Street, Kingston, TN 37763.
Send comments to the Honorable Diane McKeetham, Mayor City of Kingston, 125 W. Cumberland Street, Kingston, TN 37763.
City of Oak Ridge
Maps are available for inspection at: Community Development Department, 200 South Tulane Avenue, Oak Ridge, TN 37830.
Send comments to the Honorable David Bradshaw, Mayor City of Oak Ridge, 200 South Tulane Avenue, Oak Ridge, TN 37830.

Flooding source(s) | Location of referenced elevation | *Elevation in feet (NGVD) +Elevation in feet (NAVD) # Depth in feet above ground: Effective | *Elevation in feet (NGVD) +Elevation in feet (NAVD) # Depth in feet above ground: Modified | Communities affected
White County, Tennessee and Incorporated Areas
Calfkiller River | At Wagner Street | None | +867 | City of Sparta.
| At West Bronson Street | None | +963
Town Creek B | At Highway 111 | None | +896 | White County
| At Highway 70/North | None | +906 | (Unincorporated Areas).
* National Geodetic Vertical Datum.
# Depth in feet above ground.
+ North American Vertical Datum.
ADDRESSES
White County (Unincorporated Areas)
Maps are available for inspection at White County Executive Office, Room 205, Courthouse, 1 West Bockmen Way, Sparta, TN 38583.
Send comments to: The Honorable Herd Sullivan, Mayor White County, White County Courthouse, Room 205, Sparta, TN 38583.
City of Sparta
Maps are available for inspection at White County Executive Office, Room 205, Courthouse, 1 West Bockmen Way, Sparta, TN 38583.
Send comments to: The Honorable Tommy Pedigo, Mayor City of Sparta, 6 Liberty Square, Sparta, TN 38583.

(Catalog of Federal Domestic Assistance No. 83.100, “Flood Insurance.”)
Dated: December 11, 2006.
David I. Maurstad,
Director, Mitigation Division, Federal Emergency Management Agency, Department of Homeland Security.

[FR Doc. E6-21577 Filed 12-18-06; 8:45 am]

BILLING CODE 9110-12-P